DEPARTMENT OF ENERGY

Federal Energy Regulatory Commission

[Docket No. CP06-11-001]

MIGC, Inc.; Notice of Filing

November 2, 2006.

Take notice that on October 25, 2006, MIGC, Inc. (MIGC) tendered for filing as part of its FERC Gas Tariff, First Revised Volume No.1, First Revised Sheet No. 158, to become effective October 12, 2006.

MIGC asserts that the purpose of this filing is to cancel Rate Schedule TE-5 Tariff Sheet Nos. 158 through 167, a Gas Exchange Agreement between MIGC and Arco Oil and Gas Company, Division of Atlantic Richfield Company. The Commission granted abandonment of Rate Schedule TE-5 in Docket No. CP06-11-000 on October 12, 2006, with the requirement that MIGC file revised tariff sheets necessary to remove Rate Schedule TE-5 from its Tariff.

Any person desiring to protest this filing must file in accordance with Rule 211 of the Commission's Rules of Practice and Procedure (18 CFR 385.211). Protests to this filing will be considered by the Commission in determining the appropriate action to be taken, but will not serve to make protestants parties to the proceeding. Such protests must be filed on or before the date as indicated below. Anyone filing a protest must serve a copy of that document on all the parties to the proceeding.

The Commission encourages electronic submission of protests in lieu of paper using the “eFiling” link at http://www.ferc.gov. Persons unable to file electronically should submit an original and 14 copies of the protest to the Federal Energy Regulatory Commission, 888 First Street, NE., Washington, DC 20426.

This filing is accessible online at http://www.ferc.gov, using the “eLibrary” link and is available for review in the Commission's Public Reference Room in Washington, DC. There is an “eSubscription” link on the Web site that enables subscribers to receive e-mail notification when a document is added to a subscribed docket(s). For assistance with any FERC Online service, please e-mail FERCOnlineSupport@ferc.gov, or call (866) 208-3676 (toll free). For TTY, call (202) 502-8659.

Comment Date: 5 p.m. eastern time on November 17, 2006.

Magalie R. Salas,
Secretary.

[FR Doc. E6-18922 Filed 11-8-06; 8:45 am]

BILLING CODE 6717-01-P